FEDERAL DEPOSIT INSURANCE CORPORATION

Agency Information Collection Activities: Submission for OMB Review; Comment Request Re: Information Collection for Innovation Pilot Programs (NEW)

AGENCY: Federal Deposit Insurance Corporation (FDIC).

ACTION: Notice and request for comment.

SUMMARY: The FDIC seeks to continue its engagement and collaboration with innovators in the financial, non-financial, and technology sectors to, among other things, identify, develop and promote technology-driven innovations among community and other banks in a manner that ensures the safety and soundness of FDIC-supervised and insured institutions. An innovation pilot program framework can provide a regulatory environment in which the FDIC, in conjunction with individual proposals collected from innovators, including banks, will provide tailored regulatory and supervisory assistance, when appropriate, to facilitate the testing of innovative and advanced technologies, products, services, systems, or activities. On November 6, 2019, the FDIC requested comment for 60 days from the general public, including persons who may have an interest in participating in innovation pilot programs, and other Federal agencies, on the agency's collection of pilot program proposals by innovators, as required by the Paperwork Reduction Act of 1995 (PRA). The FDIC received no comments. The FDIC hereby gives notice of its plan to submit to the Office of Management and Budget (OMB) a request to approve this collection, and again invites comment on this new information collection request.

⁶ The maximum penalty amount is per day, unless otherwise indicated.

⁷ 12 U.S.C. 1464(v) provides the maximum CMP amounts for the late filing of certain Call Reports. In 2012, however, the FDIC issued regulations that further subdivided these amounts based upon the size of the institution and the lateness of the filing. See 77 FR 74573, 74576-78 (Dec. 17, 2012), codified at 12 CFR 308.132(e)(1). These adjusted subdivided amounts are found at the end of this chart.

⁸ The maximum penalty amount for an institution is the lesser of this amount or 1 percent of total assets.

⁹ 12 U.S.C. 1817(a) provides the maximum CMP amounts for the late filing of certain Call Reports. In 1991, however, the FDIC issued regulations that further subdivided these amounts based upon the size of the institution and the lateness of the filing. See 56 FR 37968, 37992-93 (Aug. 9, 1991), codified at 12 CFR 308.132(e)(1). These adjusted subdivided amounts are found at the end of this chart.

DATES: Comments must be submitted on or before February 13, 2020.

ADDRESSES: Interested parties are invited to submit written comments to the FDIC by any of the following methods:

¹⁰ The maximum penalty amount for an institution is the lesser of this amount or 1 percent of total assets.

¹¹ The maximum penalty amount for an institution is the lesser of this amount or 1 percent of total assets.

¹² The maximum penalty amount for an institution is the lesser of this amount or 1 percent of total assets.

¹³ These amounts also apply to CMPs in statutes that cross-reference 12 U.S.C. 1818, such as 12 U.S.C. 2601, 2804(b), 3108(b), 3349(b), 4009(a), 4309(a), 4717(b); 15 U.S.C. 1607(a), 1681s(b), 1691(b), 1691c(a), 1693o(a); and 42 U.S.C. 3601.

• https://www.FDIC.gov/regulations/laws/federal/notices.html.

• https://www.regulations.gov.

• Email: comments@fdic.gov. Include the name of the collection in the subject line of the message.

• Mail: Jennifer Jones, Counsel, MB-3105, Federal Deposit Insurance Corporation, 550 17th Street NW, Washington, DC 20429.

• Hand Delivery: Comments may be hand-delivered to the guard station at the rear of the above address located on F Street NW, on business days between 7:00 a.m. and 5:00 p.m., EST.

All comments should reference “Information Collection for Innovation Pilot Programs.” A copy of the comments may also be submitted to the OMB desk officer for the FDIC: Office of Information and Regulatory Affairs, Office of Management and Budget, New Executive Office Building, Washington, DC 20503.

FOR FURTHER INFORMATION CONTACT: Jennifer Jones, at the FDIC mailing address above or by phone at 202-898-6768.

SUPPLEMENTARY INFORMATION: On November 6, 2019, the FDIC requested comment for 60 days from the general public, including persons who may have an interest in participating in innovation pilot programs, and other Federal agencies, on the agency's collection of pilot program proposals by innovators, as required by the PRA. The FDIC received no comments. The FDIC hereby gives notice of its plan to submit to OMB a request to approve this collection, and again invites comment on this new information collection request.

¹⁴ The maximum penalty amount for an institution is the lesser of this amount or 1 percent of total assets.

¹⁵ The $122-per-day maximum CMP under 12 U.S.C. 1828(h), for failure or refusal to pay any assessment, applies only when the assessment is less than $10,000. When the amount of the assessment is $10,000 or more, the maximum CMP under section 1828(h) is 1 percent of the amount of the assessment for each day that the failure or refusal continues.

¹⁶ The maximum penalty amount for an institution is the lesser of this amount or 1 percent of total assets.

¹⁷ The maximum penalty amount for an institution is the greater of this amount or 1/100,000th of the institution's total assets.

¹⁸ The maximum penalty amount for an institution is the greater of this amount or 1/50,000th of the institution's total assets.

¹⁹ The maximum penalty amount for an institution is the lesser of this amount or 1 percent of total assets.

Time: 1. Title: Information Collection for Innovation Pilot Programs.

OMB Number: 3064-NEW.

Form Number: None.

Affected Public: FDIC-supervised institutions (state-chartered banks and savings institutions that are not members of the Federal Reserve System) and innovative companies that partner or plan to partner, or provide services to such institutions.

Estimated Number of Respondents: 50.

Estimated Total Annual Burden: 3,000 hours.

General Description of Collection: The FDIC seeks to engage and collaborate with innovators in the financial, non-financial, and technology sectors to, among other things, identify, develop and promote technology-driven innovations among community and other banks in a manner that ensures the safety and soundness of FDIC-supervised and insured institutions. An innovation pilot program framework will provide a regulatory environment in which the FDIC, in conjunction with individual proposals collected from innovators, including banks, will provide tailored regulatory and supervisory assistance, when appropriate, to facilitate the testing of innovative and advanced technologies, products, services, systems, or activities.

While greater detail and the parameters of a planned innovation pilot program framework will be separately announced at a later date, innovators (banks and firms in partnership with banks) will be invited to voluntarily propose time-limited pilot programs, which will be collected and considered by the FDIC on a case-by-case basis. Innovators may request to participate by submitting proposals during a set time period for submissions. Applicants will propose the design and parameters of the pilot program tests, as well as any tailored regulatory and supervisory assistance needed from the FDIC. Collected proposals will be assessed, prioritized and identified for testing, either on their own or as part of a subject-area focused grouping of pilot programs.

The FDIC anticipates that proposals will involve cutting-edge innovations and novel approaches or applications involving a banking product, service, system, or activity that benefits and can lead to better outcomes for consumers through, for example, an increased range of products and services, reduced costs, or improved access to financial services, or that decreases operational, risk management, or compliance costs for insured depository institutions.

Accepted pilot programs may be conducted and monitored concurrently with a number of pilot programs selected in a given cohort with limited participants. Subject-area groupings could include pilot programs that match a general theme or product area of great promise or particular interest to the banking sector or the FDIC. This may be announced in advance of the collection or afterwards if multiple pilot programs proposals are found to share key attributes or defining characteristics (e.g., similar product concept; banks of certain size; like customer focus).

Proposals will be collected from FDIC-supervised institutions (state-chartered banks and savings institutions that are not members of the Federal Reserve System), who may submit a pilot program proposal individually or together with companies that provide or aim to provide technologically driven products, services, or systems through direct contractual arrangements, partnerships, or joint ventures (this includes third-party service providers). Proposals may also be collected from innovators that are not themselves FDIC-supervised institutions and do not have a partnering institution but who may submit a pilot program proposal; however, the nonbank will be eligible to receive only a preliminary non-objection to its proposal conditioned on later submission (and collection) of the proposal in partnership with an FDIC-supervised institution.

The collection will be limited by eligibility for consideration. FDIC-supervised institutions that wish to participate in a pilot program must: (1) Have a demonstrated record of engaging in appropriate risk management; (2) be well-capitalized; (3) be well-rated for compliance and safety and soundness; and (4) not have significant pending supervisory or enforcement actions (or significant regulatory investigations). Other firms seeking to participate in a pilot program must: (1) Be a U.S. domicile; (2) conduct all pilot program banking activity (products and services) through an FDIC-supervised institution partner; and (3) not involve persons who have been convicted of any criminal offense involving dishonesty, breach of trust, or money laundering.

Request for Comment

Comments are invited on: (a) Whether the collection of information is necessary for the proper performance of the FDIC's functions, including whether the information has practical utility; (b) the accuracy of the estimate of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on January 9, 2020.
Annmarie H. Boyd,
Assistant Executive Secretary.

[FR Doc. 2020-00437 Filed 1-13-20; 8:45 am]

BILLING CODE 6714-01-P